DEPARTMENT OF ENERGY

Federal Energy Regulatory Commission

[Project No. 4718-039]

Cocheco Falls Associates; Notice of Waiver Period for Water Quality Certification Application

On October 12, 2021, Cocheco Falls Associates submitted to the Federal Energy Regulatory Commission a copy of its application for a Clean Water Act section 401(a)(1) water quality certification filed with the New Hampshire Department of Environmental Services (New Hampshire DES), in conjunction with the above captioned project. Pursuant to 40 CFR 121.6, we hereby notify the New Hampshire DES of the following:

Date of Receipt of the Certification Request: October 11, 2021.

Reasonable Period of Time To Act on the Certification Request: One year (October 11, 2022).

If New Hampshire DES fails or refuses to act on the water quality certification request on or before the above date, then the agency's certifying authority is deemed waived pursuant to section 401(a)(1) of the Clean Water Act, 33 U.S.C. 1341(a)(1).

Dated: October 27, 2021.
Kimberly D. Bose,
Secretary.

[FR Doc. 2021-23860 Filed 11-1-21; 8:45 am]

BILLING CODE 6717-01-P